JUDICIAL CONFERENCE OF THE UNITED STATES

Meeting of the Judicial Conference Advisory Committee on Rules of Evidence

AGENCY: Advisory Committee on Rules of Evidence, Judicial Conference of the United States.

ACTION: Notice of open meeting.

SUMMARY: The Advisory Committee on Rules of Evidence will hold a two day meeting. The meeting will be open to the public observation but not participation.

DATES: April 12-13, 2007.

Time: 7:30 a.m. to 5 p.m.

ADDRESSES: The Inn at Rancho Santa Fe, 5951 Linea Del Cielo, Rancho Santa Fe, CA 92067.

FOR FURTHER INFORMATION CONTACT: John K. Rabiej, Chief, Rules Committee Support Office, Administrative Office of the United States Courts, Washington, DC 20544, telephone (202) 502-1820.

Dated: February 27, 2007.
John K. Rabiej,
Chief, Rules Committee Support Office.

[FR Doc. 07-1042 Filed 3-6-07; 8:45 am]

BILLING CODE 2210-55-M